DEPARTMENT OF HEALTH AND HUMAN SERVICES

Health Resources and Services Administration

Center for Integrative Medicine in Primary Care

AGENCY: Health Resources and Services Administration (HRSA), HHS.

ACTION: Notice of Single-Award Deviation from Competition Requirements for the University of Arizona's Center for Integrative Medicine in Primary Care.

SUMMARY: The Health Resources and Services Administration (HRSA) will be issuing a noncompetitive award for the Center for Integrative Medicine in Primary Care program. Approximately $330,000 will be made available in the form of a cooperative agreement to the University of Arizona, Center for Integrative Medicine in Primary Care program, Tucson, Arizona (HP 2771) during the current budget/project period of September 1, 2014, through August 31, 2017. This cooperative agreement was fully funded for a 3-year project period on September 1, 2014. The purpose of the Center for Integrative Medicine in Primary Care program is to incorporate competency based Integrative Medicine (IM) curricula and practices into existing primary care residencies and other health professions training programs. This center is expected to contribute to the evidence-base for IM, and to identify promising practices related to the integration of IM into primary care and interprofessional practice. The Center formally partners with existing primary care residency programs (pediatrics, internal medicine, family medicine, preventive medicine) and other health professions training programs (nursing, physician assistant, public health, and behavioral health among others) to: (a) Pilot and implement the incorporation of IM into the curricula and training; (b) Provide faculty development; (c) Engage in interprofessional education and practice; (d) Develop practice-based IM rotations for residents and students; (e) Reach out to underserved populations through existing training sites to spread IM practice; (f) Identify promising IM practices through the work of the program; and (g) Evaluate students' and faculty members' knowledge gained and practice changes made through IM trainings and curriculum development.

SUPPLEMENTARY INFORMATION: Federal awardee of record and intended award amount is:

Grantee/Organization name | Grant number | State | FY 2014 authorized funding level | FY 2015 estimated funding level
University of Arizona Center for Integrative Medicine | UE1 HP 27710 | AZ | $1,699,998 fully funded for a 3-year project period | The program did not receive FY 2015 appropriated funds. HRSA proposes to award an additional $330,000 through a program expansion supplement in FY 2015.

Amount of the Award(s): Up to $330,000.

CFDA Number: 93.117.

Current Project Period: September 1, 2014, through August 31, 2017.

Period of Supplemental Funding: September 1, 2014, through August 31, 2017.

Authority: Section 765 of the Public Health Service Act (42 U.S.C. 295 and 295a), as amended by Section 5206 of the Patient Protection and Affordable Care Act.

Justification

HRSA seeks to provide a program expansion supplement of $330,000 for the Center for Integrative Medicine in Primary Care Program award for the purpose of increasing the number of pilot sites and disciplines that are reached with the initial offering of the Foundations in Integrative Healthcare online course. The program will be able to accomplish outreach to a broad range of disciplines, health professionals, types of programs, and underrepresented groups. They also will be able to provide outreach to consumers on integrative healthcare. This request is for a single-award deviation because there is only one currently funded cooperative agreement with the capacity to use the funding during the required time period.

FOR FURTHER INFORMATION CONTACT: Irene Sandvold, Medical Training and Geriatrics Branch, Division of Medicine and Dentistry, Bureau of Health Workforce, Health Resources and Services Administration, Department of Health and Human Services, 5600 Fishers Lane Room 12 C 05, Rockville, Maryland 20857, Phone: 301-443-2295, isandvold@hrsa.gov.

Dated: September 15, 2015.
James Macrae,
Acting Administrator.

[FR Doc. 2015-24115 Filed 9-22-15; 8:45 am]

BILLING CODE 4165-15-P